DEPARTMENT OF COMMERCE

National Oceanic and Atmospheric Administration

RIN 0648-XA361

Fisheries of the Exclusive Economic Zone Off Alaska; Catch Accounting in the Longline Catcher/Processor Pacific Cod Fishery

AGENCY: National Marine Fisheries Service (NMFS), National Oceanic and Atmospheric Administration (NOAA), Commerce.

ACTION: Notice of public workshop.

SUMMARY: NMFS announces a workshop to solicit input from owners and operators of longline catcher/processors (freezer longliners) engaged in the Pacific cod fisheries off Alaska. The workshop concerns proposed changes to equipment and operational requirements for monitoring catch under a voluntary cooperative. The workshop is open to the public, but NMFS is particularly seeking participation by people who are knowledgeable about the operations of Pacific cod freezer longliners and who can discuss with NMFS the potential operational impacts of proposed monitoring requirements.

DATES: The public workshop will be held on Tuesday, May 10, 2011, from 10 a.m. to 1 p.m. Pacific daylight savings time.

ADDRESSES: The workshop will be held at the Swedish Cultural Center, 1920 Dexter Avenue, N., Seattle, WA 98109. Directions to the Swedish Cultural Center are on its Web site at http://www.swedishculturalcenter.org/contacts.htm.

FOR FURTHER INFORMATION CONTACT: Alan Kinsolving, 928-774-4362 or Jennifer Watson, 907-586-7537.

SUPPLEMENTARY INFORMATION: NMFS is developing proposed revisions to observer and equipment and operational requirements for Pacific cod freezer longliners in the Bering Sea and Aleutian Islands to support different catch accounting methods for Pacific cod catch. NMFS is considering proposed requirements related to the use of motion-compensated flow scales to weigh Pacific cod; additional work space for observers; video monitoring of areas where catch is sorted and weighed; and the use of electronic logbooks to facilitate timely vessel reporting of the Pacific cod for each haul.

This workshop is open to the public, but NMFS is particularly seeking input from those who work on Pacific cod freezer longliners, are familiar with the vessel operations, and have knowledge of the potential impact of changes in the handling of Pacific cod under the proposed monitoring requirements.

Special Accommodations

The workshop will be physically accessible to people with disabilities. Requests for sign language interpretation or other auxiliary aids should be directed to Jennifer Watson, 907-586-7537, at least 10 working days prior to the meeting date.

Dated: April 13, 2011.
Margo Schulze-Haugen,
Acting Director, Office of Sustainable Fisheries, National Marine Fisheries Service.

[FR Doc. 2011-9350 Filed 4-15-11; 8:45 am]

BILLING CODE 3510-22-P